DEPARTMENT OF ENERGY

Federal Energy Regulatory Commission

[Docket No. RP01-484-000]

Aera Energy LLC, Amoco Production et al.; Complainants v. El Paso Natural Gas Company; Respondent; Notice of Complaint

July 16, 2001.

Take notice that on July 13, 2001, pursuant to Rule 206 of the Rules of Practice and Procedure of the Federal Energy Regulatory Commission (Commission) 18 CFR 385.206, Aera Energy LLC, Amoco Production Company, BP Energy Company, Burlington Resources Oil & Gas Company LP, Conoco Inc., Coral Energy Resources LP, ONEOK Energy Marketing & Trading Company, L.P., Pacific Gas and Electric Company, Panda Gila River L.P., Public Utilities Commission of the State of California, Southern California Edison Company, Southern California Gas Company and Texaco Natural Gas Inc. (Joint Complainants) filed a complaint under Section 5 of the Natural Gas Act, against El Paso Natural Gas Company (El Paso).

Complainants allege that El Paso's over-selling of firm capacity in conjunction with unlimited growth of demands by its “full requirements” customers, results in unjust, unreasonable and unduly discriminatory services on the El Paso system, in violation of Sections 5 and 7 of the Natural Gas Act, the Commission's regulations thereunder, and El Paso's obligations under the 1996 rate case settlement.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before August 2, 2001. Protests will be considered by the Commission in determining the appropriate action to be taken, but will not serve to make protestants parties to the proceeding. Any person wishing to become a party must file a motion to intervene. Answers to the complaint shall also be due on or before August 2, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18146 Filed 7-19-01; 8:45 am]

BILLING CODE 6717-01-P